JUDICIAL CONFERENCE OF THE UNITED STATES

Hearings of the Judicial Conference Advisory Committee on the Federal Rules of Criminal Procedure

AGENCY: Advisory Committee on the Federal Rules of Criminal Procedure, Judicial Conference of the United States.

ACTION: Notice of cancellation of public hearing.

SUMMARY: The following public hearing on proposed amendments to the Federal Rules of Criminal Procedure has been canceled: Criminal Rules Hearing on January 4, 2017 in Phoenix, Arizona. The announcement for this meeting was previously published in 81 FR 52713. The public hearing on proposed amendments to the Federal Rules of Criminal Procedure scheduled for February 24, 2017, in Washington, DC, remains scheduled, subject to sufficient expressions of interest.

FOR FURTHER INFORMATION CONTACT: Rebecca A. Womeldorf, Rules Committee Secretary, Rules Committee Support Office, Administrative Office of the United States Courts, Washington, DC 20544, telephone (202) 502-1820.

Dated: December 6, 2016.
Rebecca A. Womeldorf,
Rules Committee Secretary.

[FR Doc. 2016-29812 Filed 12-12-16; 8:45 am]

BILLING CODE 2210-55-P